DEPARTMENT OF JUSTICE

Notice of Lodging of Proposed Consent Decree Under the Comprehensive Environmental Response, Compensation and Liability Act

Notice is hereby given that on May 4, 2006, a proposed Consent Decree in United States v. Browning-Ferris, Inc., et al., Civil Action No. 06-1134, was lodged with the United States District Court for the District of Maryland.

The proposed consent decree in United States v. Browning-Ferris, Inc., et al., resolves the claims of the United States and Maryland under sections 106 and 107 of the Comprehensive Environmental Response, Compensation and Liability Act (“CERCLA”), 42 U.S.C. 9606 and 9607, at the Kane and Lombard Site, located in Baltimore, Maryland (the “Site”). This consent decree obligates four defendants to perform the remedy that EPA selected for the second operable unit at the Site. Also included in the decree are fourteen parties that are contributing financially to the clean-up through payments to the defendants, but who will not be performing the work nor directly reimbursing the Federal or state past response costs. EPA estimates that the work to be performed pursuant to this consent decree will be approximately $7,345,000.

The Department of Justice will receive comments relating to this Consent Decree for a period of thirty (30) days from the date of this publication. Comments should be addressed to the Assistant Attorney General, Environmental and Natural Resources Division, P.O. Box 7611, U.S. Department of Justice, Washington, DC 20044-7611, attention: Nancy Flickinger, and should refer to United States v. Browning-Ferris, Inc., et al., Civil Action No. 06-1134, and DOJ # 90-11-2-299/1.

The Consent Decree may be examined at the Office of the United States Attorney for the District of Maryland, 36 S. Charles Street, Baltimore, MD 21201, and at U.S. EPA Region III's Office, 1650 Arch Street, Philadelphia, PA 19103. During the public comment period, the consent decree may also be examined on the following Department of Justice Web site, http//www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of 25 cents per page reproduction cost for a full copy of the consent decree, payable to the U.S. Treasury.

W. Benjamin Fisherow,
Deputy Section Chief, Environmental Enforcement Section, Environment and Natural Resources Division.

[FR Doc. 06-4832 Filed 5-24-06; 8:45am]

BILLING CODE 4410-15-M